NUCLEAR REGULATORY COMMISSION

[Docket No. 50-293; NRC-2012-0311]

Entergy Nuclear Operations, Inc.; Pilgrim Nuclear Power Station

AGENCY: Nuclear Regulatory Commission.

ACTION: Environmental assessment and finding of no significant impact.

ADDRESSES: Please refer to Docket ID NRC-2012-0311 when contacting the NRC about the availability of information regarding this document. You may access information related to this document, which the NRC possesses and is publicly available, using any of the following methods:

• Federal rulemaking Web site: Go to http://www.regulations.gov and search for Docket ID NRC-2012-0311. Address questions about NRC dockets to Carol Gallagher; telephone: 301-492-3668; email: Carol.Gallagher@nrc.gov.

• NRC's Agencywide Documents Access and Management System (ADAMS):

You may access publicly available documents online in the NRC Library at http://www.nrc.gov/reading-rm/adams.html. To begin the search, select “ADAMS Public Documents” and then select “Begin Web-based ADAMS Search.” For problems with ADAMS, please contact the NRC's Public Document Room (PDR) reference at 1-800-397-4209, or 301-415-4737, or by email to pdr.resource@nrc.gov. The application for exemption dated November 29, 2012, contains select security-related information and, accordingly, those portions are being withheld from public disclosure. A redacted version of the application for exemption, dated November 29, 2012, is available electronically under ADAMS Accession No. ML12335A343.

• NRC's PDR: You may examine and purchase copies of public documents at the NRC's PDR, Room O1-F21, One White Flint North, 11555 Rockville Pike, Rockville, Maryland 20852.

SUPPLEMENTARY INFORMATION:

I. Introduction

The U.S. Nuclear Regulatory Commission (NRC) is considering issuance of an exemption from Title 10 of the Code of Federal Regulations (10 CFR) Part 50, Appendix E, Section IV.F.2.c, “Training,” for Renewed Facility Operating License No. DPR-35, to delay the requirement to perform the offsite functions of the biennial Emergency Preparedness (EP) exercise from November 7, 2012 to March 2013, as requested by Entergy Nuclear Operations, Inc. (the licensee), for operation of the Pilgrim Nuclear Power Station (Pilgrim), located in Plymouth, Massachusetts. As required by 10 CFR 51.21, “Criteria for and identification of licensing and regulatory actions requiring environmental assessments,” the NRC performed an environmental assessment (EA). Based on the results of the EA, the NRC is issuing a finding of no significant impact.

II. Environmental Assessment Summary

Identification of the Proposed Action

The proposed action would grant an exemption from 10 CFR Part 50, Appendix E, Section IV.F.2.c to delay the requirement to perform the offsite elements of the Pilgrim biennial EP exercise to March 2013. Currently, the licensee is required to complete the exercise by the end of calendar year 2012. The proposed action is in accordance with the licensee's application dated November 29, 2012 (Agencywide Documents Access and Management System (ADAMS) Accession No. ML12335A343).

The Need for the Proposed Action

The proposed exemption from 10 CFR Part 50, Appendix E, was submitted due to the impact of Hurricane Sandy on the availability of Federal, State, and local government agencies and their capability to support the full-participation biennial exercise conducted on November 7, 2012. Due to widespread damage and flooding throughout the area, immediate response efforts and long term resource commitments were needed from the Federal Emergency Management Agency (FEMA), the Massachusetts Emergency Management Agency (MEMA), and local town officials in the Pilgrim Emergency Planning Zone (EPZ). As a result, the necessary participants from Federal, State, and local agencies did not participate in the previously planned and scheduled Pilgrim biennial exercise that was conducted on November 7, 2012. By electronic correspondence dated November 26, 2012,¹ FEMA and the State of Massachusetts agreed to postpone its evaluation of the exercise until March 2013.

¹ This letter was not submitted directly to the NRC, but is included as Attachment 3 to the licensee's exemption request.

Environmental Impacts of the Proposed Action

If the requested exemption were to be approved by the NRC, the full-participation, FEMA-evaluated biennial emergency exercise would not be conducted until March 2013. Changing the date of the exercise does not alter the way the drill will be performed (e.g., use of roads or highways). Delaying performance of the exercise does not change any facility equipment or operations. Thus, the proposed action would not significantly increase the probability or consequences of an accident, create a new accident, change the types or quantities of radiological effluents that may be released offsite, or result in a significant increase in public or occupational radiation exposure.

Environmental Impacts of the Alternatives to the Proposed Action

As an alternative to the proposed action, the NRC staff considered denial of the proposed action (i.e., the no-action alternative). Denial of the application would result in no change in current environmental impacts.

Alternative Use of Resources

The action does not involve the use of any different resources than those previously considered in NUREG-1437, Supplement 29, Volume 2, “Generic Environmental Impact Statement for License Renewal of Nuclear Plants Regarding Pilgrim Nuclear Power Station, Final Report- Appendices,” published in July 2007 (ADAMS Accession No. ML071990027).

Agencies and Persons Consulted

In accordance with its stated policy, on December 10, 2012, the NRC staff consulted with the State official from the Massachusetts Department of Public Health regarding the environmental impact of the proposed action. The State official had no comments.

III. Finding of No Significant Impact

On the basis of the environmental assessment, the NRC concludes that the proposed action will not have a significant effect on the quality of the human environment. Accordingly, the NRC has determined not to prepare an environmental impact statement for the proposed action.

Dated at Rockville, Maryland, this 19th day of December 2012.
For the Nuclear Regulatory Commission.
Richard V. Guzman,
Senior Project Manager, Plant Licensing Branch I-1, Division of Operating Reactor Licensing, Office of Nuclear Reactor Regulation.

[FR Doc. 2012-31286 Filed 12-27-12; 8:45 am]

BILLING CODE 7590-01-P